DEPARTMENT OF TRANSPORTATION

Federal Railroad Administration

49 CFR Part 299

[Docket No. FRA-2019-0068, Notice No. 3]

RIN 2130-AC84

Texas Central Railroad High-Speed Rail Safety Standards

AGENCY: Federal Railroad Administration (FRA), Department of Transportation (DOT).

ACTION: Proposed rule; announcement of public hearing postponement.

SUMMARY: FRA is postponing three public hearings, originally announced on March 12, 2020, for the purpose of receiving oral comment on the Texas Central Railroad High-Speed Rail Safety Standards notice of proposed rulemaking (NPRM). The hearings were scheduled between March 31, 2020 and April 2, 2020 in Dallas, Navasota, and Houston, Texas.

DATES: The public hearings that were scheduled on the following dates are postponed:

• Dallas, TX: March 31, 2020.

• Navasota, TX: April 1, 2020.

• Houston, TX: April 2, 2020.

The comment period for the proposed rule published on March 10, 2020 (85 FR 14036), is still scheduled to close on May 11, 2020. Written comments on the NPRM must be received by that date.

ADDRESSES: The postponed public hearings were scheduled at the following locations:

• Dallas, TX: Waxahachie Civic Center, 2000 Civic Center Ln, Waxahachie, TX 75165.

• Navasota, TX: Grimes County Fairgrounds and Expo Center, 5220 FM 3455, Navasota, Texas 77868.

• Houston, TX: Waller High School Auditorium, 20950 Field Store Rd, Waller, TX 77484.

FOR FURTHER INFORMATION CONTACT: Michael Hunter, Attorney Adviser, U.S. Department of Transportation, Federal Railroad Administration, Office of Chief Counsel, 1200 New Jersey Avenue SE, Washington, DC 20590 (telephone: (202) 493-0368).

SUPPLEMENTARY INFORMATION: In light of the President's March 13, 2020, declaration of national emergency concerning the novel coronavirus disease (COVID-19) outbreak, and the Centers for Disease Control and Prevention's (CDC) guidance to cancel mass gatherings of people, FRA is postponing the three public hearings it had scheduled between March 31, 2020 and April 2, 2020 in Dallas, Navasota, and Houston, Texas. FRA will reschedule to provide an opportunity for public hearing consistent with CDC guidelines, and may decide to use other alternative methods than in-person attendance. FRA plans to announce a revised hearing schedule in the Federal Register in the near future.

John Karl Alexy,
Associate Administrator for Railroad Safety, Chief Safety Officer.

[FR Doc. 2020-06580 Filed 3-26-20; 8:45 am]

BILLING CODE 4910-06-P